DEPARTMENT OF TRANSPORTATION

Federal Aviation Administration

14 CFR Part 39

[Docket No. FAA-2018-0552; Product Identifier 2018-NM-049-AD]

RIN 2120-AA64

Airworthiness Directives; Airbus Defense and Space S.A. (Formerly Known as Construcciones Aeronauticas, S.A. (CASA)) Airplanes

AGENCY: Federal Aviation Administration (FAA), DOT.

ACTION: Notice of proposed rulemaking (NPRM).

SUMMARY: We propose to adopt a new airworthiness directive (AD) for certain Airbus Defense and Space S.A. Model C-212-CB, C-212-CC, C-212-CD, C-212-CE, and C-212-DF airplanes. This proposed AD was prompted by reports of failures of the rudder pedal control system support. This proposed AD would require repetitive detailed visual inspections of the rudder pedal control system support box and shaft and applicable corrective actions. We are proposing this AD to address the unsafe condition on these products.

DATES: We must receive comments on this proposed AD by August 9, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus Defense and Space, Services/Engineering support, Avenida de Aragón 404, 28022 Madrid, Spain; telephone: +34 91 585 55 84; fax: +34 91 585 31 27; email: MTA.TechnicalService@military.airbus.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2018-0552; or in person at the Docket Management Facility between 9 a.m. and 5 p.m., Monday through Friday, except Federal holidays. The AD docket contains this NPRM, the regulatory evaluation, any comments received, and other information. The street address for the Docket Operations office (telephone: 800-647-5527) is in the ADDRESSES section. Comments will be available in the AD docket shortly after receipt.

FOR FURTHER INFORMATION CONTACT: Shahram Daneshmandi, Aerospace Engineer, International Section, Transport Standards Branch, FAA, 2200 South 216th St., Des Moines, WA 98198; telephone and fax 206-231-3220.

SUPPLEMENTARY INFORMATION:

Comments Invited

We invite you to send any written relevant data, views, or arguments about this proposal. Send your comments to an address listed under the ADDRESSES section. Include “Docket No. FAA-2018-0552; Product Identifier 2018-NM-049-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

The European Aviation Safety Agency (EASA), which is the Technical Agent for the Member States of the European Union, has issued EASA AD 2018-0051, dated March 2, 2018 (referred to after this as the Mandatory Continuing Airworthiness Information, or “the MCAI”), to correct an unsafe condition for certain Airbus Defense and Space S.A. Model C-212-CB, C-212-CC, C-212-CD, C-212-CE, and C-212-DF airplanes. The MCAI states:

Failures were reported of the rudder pedal control system support on CASA C-212 aeroplanes. Subsequent investigation revealed that the welding area of the affected support structure had broken.

This condition, if not corrected, could lead to failure of the rudder [pedal] control system, possibly resulting in reduced control of the aeroplane.

To address this potential unsafe condition, EADS-CASA issued the SB [EADS-CASA Service Bulletin SB-212-27-0057, dated May 21, 2014] to provide modification instructions and EASA issued AD 2017-0036 [which corresponds to FAA AD 2017-19-08, Amendment 39-19038 (82 FR 43835, September 20 2017) (“AD 2017-19-08”)] to require that modification [of the rudder pedal adjustment system]. During accomplishment of that modification, several operators reported difficulties or impossibility to follow the accomplishment instruction. Consequently, EASA and Airbus D&S [Defense and Space S.A.] reviewed the difficulty reports and decided that the modification instructions have to be improved.

Pending the improvement of the instructions of the SB [EADS-CASA Service Bulletin SB-212-27-0057, dated May 21, 2014] and in order to reduce the risk of failure of the [rudder] pedal adjustment system to an acceptable level, Airbus D&S issued the inspection AOT [Airbus Alert Operators Transmission AOT-C212-27-0002, dated February 28, 2018] to provide instructions to repetitively inspect the affected parts [rudder pedal support box Part Number (P/N) 212-46195.1 and shaft P/N 212-46120-20].

For the reasons described above, this [EASA] AD cancels the requirements of EASA AD 2017-0036, which is superseded, and requires repetitive [detailed visual] inspections of the rudder pedal adjustment system [rudder pedal support box P/N 212-46195.1 and shaft P/N 212-46120-20] and, depending on findings, accomplishment of applicable corrective action(s).

This [EASA] AD is considered to be an interim action and further [EASA] AD action may follow.

Corrective actions include obtaining corrective actions approved by the Manager, International Section, Transport Standards Branch, FAA; or EASA; or Airbus Defense and Space S.A.'s EASA Design Organization Approval (DOA); and accomplishing the corrective actions within the compliance time specified therein. You may examine the MCAI in the AD docket on the internet at http://www.regulations.gov by searching for and locating Docket No. FAA-2018-0552.

Relationship Between Proposed AD and AD 2017-19-08

This NPRM does not propose to supersede AD 2017-19-08. Rather, we have determined that a stand-alone AD would be more appropriate to address the changes in the MCAI. This proposed AD would require repetitive detailed visual inspections of the rudder pedal control system support box and shaft and applicable corrective actions. Accomplishment of the proposed actions would then terminate all of the requirements of AD 2017-19-08.

Related Service Information Under 1 CFR Part 51

Airbus Defense and Space S.A. has issued Airbus Alert Operators Transmission AOT-C212-27-0002, dated February 28, 2018. The service information describes procedures for repetitive detailed visual inspections of the rudder pedal control system support box and shaft. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 36 airplanes of U.S. registry. We estimate the following costs to comply with this proposed AD:

Estimated Costs for Required Actions
Labor cost | Parts cost | Cost per product | Cost on U.S. operators
Up to 8 work-hours × $85 per hour = Up to $680 | $0 | Up to $680 | Up to $24,480.

We have received no definitive data that would enable us to provide cost estimates for the on-condition repair specified in this proposed AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Defense and Space S.A. (Formerly Known as Construcciones Aeronauticas, S.A. (CASA)): Docket No. FAA-2018-0552; Product Identifier 2018-NM-049-AD.

(a) Comments Due Date

We must receive comments by August 9, 2018.

(b) Affected ADs

This AD affects AD 2017-19-08, Amendment 39-19038 (82 FR 43835, September 20 2017) (“AD 2017-19-08”).

(c) Applicability

This AD applies to Airbus Defense and Space S.A. Model C-212-CB, C-212-CC, C-212-CD, C-212-CE, and C-212-DF airplanes; manufacturer serial numbers 009, 034, 039, 089, 092, 119, 125, 133, 138, 149, 150, 154, 159, 161, 162, 164, 165, 167 through 169 inclusive, 171, 172, 174, 175, 178, 180, 181, 190, 192, 193, 195, 209 through 212 inclusive, 214 through 216 inclusive, 219 through 222 inclusive, 224 through 227 inclusive, 229, 235, 236, 238, 240, 242, 247 through 257 inclusive, 261 through 263 inclusive, 265, 272 through 282 inclusive, 286, 287, 289 through 292 inclusive, 294, 308, 311, 320, 322 through 324 inclusive, 328, 332, 336, 343, 347 through 349 inclusive, 356, 359, 363, 371, 379, 393, 397, 398, 405, 410, 411, 413, 465, 470, 472, 474, 475, 478, and 480 through 482 inclusive; certificated in any category; except airplanes modified in accordance with the Accomplishment Instructions of EADS-CASA Service Bulletin SB-212-27-0057, dated May 21, 2014.

(d) Subject

Air Transport Association (ATA) of America Code 27, Flight controls.

(e) Reason

This AD was prompted by reports of failures of the rudder pedal control system support. We are issuing this AD to prevent failure of the rudder control system, which could result in reduced controllability of the airplane.

(f) Compliance

Comply with this AD within the compliance times specified, unless already done.

(g) Definitions

(1) For the purposes of this AD, an affected part is defined as a rudder pedal support box having Part Number (P/N) 212-46195.1 and shaft P/N 212-46120-20.

(2) For the purposes of this AD, a discrepancy or defect of the rudder pedal support box P/N 212-46195.1 is defined as any crack or deformation on any welded area.

(3) For the purposes of this AD, a discrepancy or defect of the shaft P/N 212-46120-20 is defined as any crack or deformation.

(h) Repetitive Detailed Visual Inspections

Within 3 months or during the next scheduled A-check maintenance, whichever occurs first after the effective date of this AD, and thereafter, at intervals not to exceed 150 flight hours, do a detailed visual inspection of each affected part in accordance with the instructions of Airbus Alert Operators Transmission AOT-C212-27-0002, dated February 28, 2018.

(i) Corrective Action for Any Discrepancy or Defect

If any discrepancy or defect is detected during any inspection required by paragraph (h) of this AD: Before further flight, obtain corrective actions approved by the Manager, International Section, Transport Standards Branch, FAA; or the European Aviation Safety Agency (EASA); or Airbus Defense and Space S.A.'s EASA Design Organization Approval (DOA); and accomplish the corrective actions within the compliance time specified therein. If approved by the DOA, the approval must include the DOA-authorized signature. Accomplishment of a repair, as required by this paragraph, does not constitute terminating action for the repetitive inspections required by paragraph (h) of this AD.

(j) Parts Installation Limitation

As of the effective date of this AD, an affected part may be installed on any airplane provided that it is a new part or that, before installation, the visual inspection required by paragraph (h) of this AD has been accomplished on that part and the part passed the inspection (no discrepancy or defect detected), as required by paragraph (h) of this AD.

(k) Terminating Action for AD 2017-19-08

Accomplishing the actions required by this AD terminates all of the requirements of AD 2017-19-08.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus Defense and Space S.A.'s EASA DOA. If approved by the DOA, the approval must include the DOA-authorized signature.

(m) Related Information

(1) Refer to Mandatory Continuing Airworthiness Information (MCAI) EASA AD 2018-0051, dated March 2, 2018, for related information. This MCAI may be found in the AD docket on the internet at http://www.regulations.gov by searching for and locating Docket No. FAA-2018-0552.

(2) For more information about this AD, contact Shahram Daneshmandi, Aerospace Engineer, International Section, Transport Standards Branch, FAA, 2200 South 216th St., Des Moines, WA 98198; telephone and fax 206-231-3220.

(3) For service information identified in this AD, contact Airbus Defense and Space, Services/Engineering support, Avenida de Aragón 404, 28022 Madrid, Spain; telephone: +34 91 585 55 84; fax: +34 91 585 31 27; email: MTA.TechnicalService@military.airbus.com. You may view this service information at the FAA, Transport Standards Branch, 2200 South 216th St., Des Moines, WA. For information on the availability of this material at the FAA, call 206-231-3195.

Issued in Des Moines, Washington, on June 14, 2018.

Michael Kaszycki,
Acting Director, System Oversight Division, Aircraft Certification Service.

[FR Doc. 2018-13342 Filed 6-22-18; 8:45 am]

BILLING CODE 4910-13-P